DEPARTMENT OF ENERGY

Federal Energy Regulatory Commission

[Docket Nos. CPOO-51-000 and CPOO-51-001

East Tennessee Natural Gas Company; Notice of Site Visit

June 13, 2000.

On June 19, 20, and 21, 2000, the staff of the Office of Energy Projects will be conducting an environmental site visit of East Tennessee Natural Gas Company's Rocky Top Expansion Project in Wythe, Smyth, and Washington Counties, Virginia and Greene, Roane, McMinn, Morgan, Overton, Fentress, and Hamilton Counties, Tennessee. All parties may attend. Those planning to attend must provide their own transportation.

For further information about where the site inspection will begin, please contact Paul McKee at (202) 208-1088.

Linwood A. Watson, Jr.,
Acting Secretary.

[FR Doc. 00-15351 Filed 6-16-00; 8:45 am]

BILLING CODE 6717-01-M